DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey, School Enrollment Survey.

OMB Control Number: 0607-0464.

Form Number(s): There are no forms. We conduct all interviews on computers.

Type of Request: Regular Submission.

Number of Respondents: 59,000.

Average Hours Per Response: 3.0 minutes.

Burden Hours: 2,950.

Needs and Uses: These data provide basic information on the school enrollment status of various segments of the population necessary as background for policy formulation and implementation. This supplement is the only annual source of data on public/private elementary and secondary school enrollment, as well as the characteristics of private school students and their families. As part of the Federal Government's efforts to collect data and provide timely information to government entities for policymaking decisions, this supplement provides national trends in enrollment and progress in school. Consequently, this supplement is the only source of historical data at the national level on the age distribution and family characteristics of college students, and on the demographic characteristics of preprimary school enrollment.

Affected Public: Individuals or households.

Frequency: Annual.

Respondent's Obligation: Voluntary.

Legal Authority: Title 13 U.S.C. Sections 8(b), 141, 182, and Title 29, U.S.C. Sections 1-9 authorize the collection of this information on individuals and households. Title 20 U.S.C. Sections 3475, 9543, 9544, and 9546 authorize the National Center for Education Statistics to collect this information.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: September 8, 2015.
Glenna Mickelson,
Management Analyst, Office of the Chief Information Officer.

[FR Doc. 2015-22904 Filed 9-10-15; 8:45 am]

BILLING CODE 3510-07-P